DEPARTMENT OF DEFENSE

Department of the Army; Corps of Engineers

Intent To Prepare a Draft Environmental Impact Statement for a Proposed First Broad First Reservoir in Cleveland County, NC

AGENCY: Department of the Army, U.S. Army Corps of Engineers, DoD.

ACTION: Notice of intent.

SUMMARY: The Cleveland County Sanitary District (CCSD) is applying for a Department of the Army permit under Section 404 of the Clean Water Act (33 U.S.C. 134) to impact approximately 24 miles of river and stream habitat and approximately 1 acre of wetlands with the construction of a dam and water supply reservoir on the First Broad River. The proposed dam site is one mile north of the Town of Lawndale in Cleveland County, NC. The CCSD is proposing this action for the purpose of increasing the water supply for its service area and the region. Based on current rates of growth, CCSD has projected that water needs for its customers will double by the year 2050. Projected regional water demand indicate that existing water supplies are inadequate for future needs. The proposed reservoir would also lessen the occurrence of water shortages during drought conditions. In accordance with the National Environmental Policy Act (NEPA), a Draft Environmental Impact Statement (DEIS) will be prepared to evaluate and compare alternatives for increasing water supply and to assess associated impacts.

FOR FURTHER INFORMATION CONTACT: Questions about the proposed action and DEIS can be answered by: Mr. David Baker, U.S. Army Corps of Engineers, 151 Patton Avenue, Room 208, Asheville, NC 28801-5006; telephone: (828) 271-7980 x225.

SUPPLEMENTARY INFORMATION: Construction of a dam to create the First Broad River Reservoir will also require certification from the North Carolina Division of Water Quality (NCDWQ) pursuant to Section 401 of the Clean Water Act, as amended, that the project can be undertaken without violating the state water quality standards.

The following description of the proposed dam and reservoir is subject to change as analysis and additional designs are completed. Initial feasibility estimates indicate that an earth-filled dam across the First Broad River may be approximately 83 feet high and 1,245 feet wide at the base. The associated emergency spillway, located south of the dam, would be approximately 1,000 feet wide. The dam would create a reservoir with a surface area of approximately 2,245 acres, impounding those areas below 860-feet msl. A 100-foot buffer would likely surround the reservoir. Flooding impacts would potentially include the loss of approximately 24 miles of river and stream habitat and roughly 1,400 acres of forested and agricultural land. The project would likely inundate less than one acre of wetland, subject to field verification.

Alternatives

Through the NEPA process, a number of potentially alternatives to meeting future water supply demands will be considered. It is anticipated that those potential solutions could include, but are not limited to, the following:

Conserve Water—Per capita water usage could be decreased through the implementation of a water conservation program. The CSSD has a voluntary water conservation program and enforces a mandatory program of water conservation during periods of drought. According to the CCSD, an aggressive water conservation plan will not negate the demand for an additional water supply in the future.

Utilize Groundwater—Smaller communities and residences could be served by individual groundwater wells. However, there are no aquifers of large enough capacity to serve large municipal systems in the Cleveland County area.

Purchase Water from other Sources—Under this alternative, water would be purchased from an existing municipal source, such as the City of Shelby, the Town of Kings Mountain, the Broad River Water Authority (BRWA), the Town of Forest City, or the City of Hickory.

Shelby—The City of Shelby utilizes the First Broad River as its water source. The CCSD has an emergency use agreement and pipeline connection in place with the City of Shelby. The volume of water available to the CCSD is limited.

Kings Mountain—Moss Lake provides potable water to the Town of Kings Mountain. There is currently no direct connection between the town and CCSD. In 2002, an emergency pipeline connection with the City of Shelby was constructed to supplement the city's water supply during the drought.

Broad River Water Authority (BRWA)—The BRWA utilizes the Broad River as its water source with an intake near the Town of Rutherfordton and a 12.0 MGD water treatment plant. The CCSD has an emergency use agreement and pipeline connection in place with the BRWA.

Town of Forest City—The Town of Forest City utilizes the Second Broad River as its water source with an intake located north of the town and a 12.0 MGD water treatment plant. The CCSD does not currently have a connection in place with the Town of Forest City.

Hickory—The City of Hickory uses the Catawba River (Lake Hickory) as a raw water supply. The city currently has available excess capacity to meet the projected future CCSD demands. This alternative would require permission from the North Carolina Environmental Management Commission to transfer the required amount of flow from the Catawba River basin to the Broad River basin.

Other Regional Sources—Other feasible regional sources of water to meet future demands, including during emergency situations, would be explored.

Increase Withdrawal at Existing Intake Site—Withdrawals at the existing intake site are constrained by normal flows of the First Broad River and the required instream flow requirements established by the North Carolina Division of Water Resources. The projected safe yield of the First Broad River at the existing CCSD intake is 10.0 MGD. However during the 2002 drought the available supply dropped to less than 4.0 MGD.

Construct a Reservoir (no pumped storage).

First Broad River—A reservoir on the First Broad River would consist of an impoundment of the river to meet the needs of the CCSD to provide a reliable water source. Preliminary studies on several sites were performed to consider the volume; surface area; shoreline; safe yield; and number of roads, bridges, cemeteries and schools that would potentially be affected (McGill, 1997, Feasibility Study, First Broad River Reservoir).

Other Rivers in the Region—Other rivers may not be feasible due to size constraints, cost estimates, existing water demands on the system (such as the Broad River), distance to the CCSD water treatment facility, or location within other regional utility service areas.

Construct Several Reservoirs—This alternative would construct several reservoirs in the First Broad River watershed instead of one main impoundment.

Intake System on the Broad River (no storage reservoir)—This alternative would consist of construction of a new run of the river type intake on the Broad River and the utilization of the river for a raw water supply in addition to the First Broad River. This alternative would require the classification of the river and a portion of the watershed for use as a water supply. Several other municipalities have expressed interest in future utilization of the Broad River for water supply and have commenced the reclassification process for a portion of the river. Other demands for water from the river will impact the amount of water available for the CCSD.

Construct an Intake System on the First Broad River with one Storage Reservoir—This alternative would consist of the construction of an “off-stream reservoir.” The reservoir would be maintained at full pool elevation during periods of normal to high flows by pumping water from the First Broad River to the reservoir. During periods of low flow in the First Broad River, raw water would flow from the “off-stream reservoir” through a water line to the water treatment plant.

No Action—Under the no-action alternative, the CCSD would continue to take water from the current intake on the First Broad River.

After an evaluation of such potential alternatives, a determination will be made as to the Reasonable Alternatives to be fully evaluated in the DEIS.

Proposed Scoping Process. This Notice of Intent initiates the scoping process whereby the U.S. Army Corps of Engineers (USACE) will refine the scope of issues to be addressed in the DEIS and identify potential significant environmental issues related to the proposed action.

The primary issues to be addressed in the DEIS are the impacts of the project related to hydrology (including floodplains, floodways, and geomorphology), water quality, aquatic habitat and wildlife, jurisdictional waters, terrestrial habitat and wildlife (including migratory birds), protected species, soils, topography, geology, hazardous materials, underground storage tanks, transportation network, recreational opportunities, air quality, noise, cultural resources, aesthetics, socioeconomics, and land use. In addition, the DEIS will address indirect and cumulative effects. This list of issues may be modified and/or expanded through the scoping process.

The USACE will, through the scoping process, invite the participation of all local, state, and federal agencies which have jurisdiction by law or special expertise with the affected resources, as well as other interested parties. These include, but are not limited to, the U.S. Fish and Wildlife Service, under the Endangered Species Act and the Fish and Wildlife Coordination Act; U.S. Environmental Protection Agency, the State Historic Preservation Officer and the Tribal Historic Preservation Office under the National Historic Preservation Act, North Carolina Department of Environment and Natural Resources, North Carolina Wildlife Resources Commission, and the North Carolina Department of Transportation.

An initial scoping meeting will be held in the community to describe the proposed project and solicit suggestions, recommendations, and comments to help refine the issues, measures, and alternatives to be addressed in the DEIS. The specific location, date, and time of the meeting will be published in local newspaper(s) or other media, and provided to those persons receiving this notice and those who call or write after seeing a published version of this notice.

All private interests and Federal, State, and local agencies and officials, Indian Tribes, and others having an interest in the project are hereby notified that their participation is invited.

Availability. It is anticipated that the DEIS would be distributed to the public in late 2008.

Dated: June 8, 2006.
John E. Pulliam, Jr.,
Colonel, U.S. Army, District Commander.

[FR Doc. 06-6139 Filed 7-11-06; 8:45 am]

BILLING CODE 3710-CE-M